RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Request to Non-Railroad Employer for Information About Annuitant's Work and Earnings.

(2) Form(s) submitted: RL-231-F.

(3) OMB Number: 3220-0107.

(4) Expiration date of current OMB clearance: 04/30/2003.

(5) Type of Request: Extension of a currently approved collection.

(6) Respondents: Business or other-for-profit.

(7) Estimated annual number of respondents: 300.

(8) Total annual responses: 150.

(9) Total annual reporting hours: 150.

(10) Collection description: Under the Railroad Retirement Act (RRA), benefits are not payable if an annuitant works for an employer covered under the RRA or last non-railroad employer. The collection obtains information regarding an annuitant's work and earnings from a non-railroad employer. The information will be used for determining whether benefits should be withheld.

Additional Information or Comments: Copies of the forms and supporting documents can be obtained from Chuck Mierzwa, the agency clearance officer (312) 751-3363.

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 03-131 Filed 1-3-03; 8:45 am]

BILLING CODE 7905-01-M